DEPARTMENT OF JUSTICE

Antitrust Division

Notice Pursuant to the National Cooperative Research and Production Act of 1993—Automotive Cybersecurity Industry Consortium

Notice is hereby given that, on May 29, 2020, pursuant to Section 6(a) of the National Cooperative Research and Production Act of 1993, 15 U.S.C. 4301 et seq. (“the Act”), Automotive Cybersecurity Industry Consortium (“ACIC”) has filed written notifications simultaneously with the Attorney General and the Federal Trade Commission disclosing changes in its membership. The notifications were filed for the purpose of extending the Act's provisions limiting the recovery of antitrust plaintiffs to actual damages under specified circumstances. Specifically, General Motors, LLC, Detroit, MI and Mazda Motor of America, Inc., Irvine, CA have withdrawn as parties to this venture.

No other changes have been made in either the membership or planned activity of the group research project. Membership in this group research project remains open, and ACIC intends to file additional written notifications disclosing all changes in membership.

On January 11, 2017, ACIC filed its original notification pursuant to Section 6(a) of the Act. The Department of Justice published a notice in the Federal Register pursuant to Section 6(b) of the Act on February 27, 2017 (82 FR 11942).

The last notification was filed with the Department on August 23, 2017. A notice was published in the Federal Register pursuant to Section 6(b) of the Act on September 29, 2017 (82 FR 45611).

Suzanne Morris,
Chief, Premerger and Division Statistics, Antitrust Division.

[FR Doc. 2020-12295 Filed 6-5-20; 8:45 am]

BILLING CODE 4410-11-P